COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services from the Procurement List previously furnished by nonprofit agencies employing persons who are blind or have other severe disabilities.

DATES: Date deleted from the Procurement List: November 4, 2018.

ADDRESSES: Committee for Purchase From People Who Are Blind or Severely Disabled, 1401 S. Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Deletions

On 8/31/2018 (83 FR 170), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s): 7510-01-484-0012—Paper Holder & Micro Note Holder

Mandatory Source of Supply: The Lighthouse for the Blind, Inc. (Seattle Lighthouse), Seattle, WA

Contracting Activity: GSA/FAS Admin Svcs Acquisition Br (2, New York, NY

NSN(s)—Product Name(s): 8010-00-935-6609—Enamel, Lacquer, Acrylic, Gloss White

8010-00-935-7064—Enamel, Lacquer, Acrylic, Gloss Red

Mandatory Source of Supply: The Lighthouse for the Blind, St. Louis, MO

Contracting Activity: Defense Logistics Agency Troop Support

NSN(s)—Product Name(s): MR 10738—Holder, Pot Lid and Utensil, Includes Shipper 20738

MR 10739—Herb Stripper, Includes Shipper 20739

MR 10737—Snack Container, Licensed, Includes Shipper 20735

Mandatory Source of Supply: Winston-Salem Industries for the Blind, Inc., Winston-Salem, NC

Contracting Activity: Defense Commissary Agency

NSN(s)—Product Name(s): 7510-01-417-1220—Toner, Cartridges, New

Mandatory Source of Supply: Alabama Industries for the Blind, Talladega, AL

Contracting Activity: GSA/FAS Admin Svcs Acquisition Br (2, New York, NY

Services

Service Type: Linen Management Service

Mandatory for: Fleet and Industrial Supply Center, Norfolk, VA

Mandatory Source of Supply: Chesapeake Service Systems, Inc., Chesapeake, VA

Contracting Activity: Dept of the Navy, U.S. Fleet Forces Command

Service Type: Food Service Attendant Service

Mandatory for: U.S. Navy Cargo Handling and Port Group, Williamsburg, VA

Mandatory Source of Supply: VersAbility Resources, Inc., Hampton, VA

Contracting Activity: Dept of the Navy, U.S. Fleet Forces Command

Service Type: Administrative Service

Mandatory for: Quantico Marine Corps Base—Systems Command, 2033 Barnett Ave., Quantico, VA

Mandatory Source of Supply: Didlake, Inc., Manassas, VA

Contracting Activity: Dept of the Navy, U.S. Fleet Forces Command

Service Type: Mail and Messenger Service

Mandatory for: Naval Engineering Field Activity Chesapeake: Atlantic Division, Washington Navy Yard

Naval Facilities Engineering Command (NAVFACENGCOM), 851 Sicard Street NE, Washington, DC

Mandatory Source of Supply: ServiceSource, Inc., Oakton, VA

Contracting Activity: Dept of the Navy, U.S. Fleet Forces Command

Service Type: Custodial Service

Mandatory for: U.S. Army Corps of Engineers, Lake Michigan Area Office, 307 South Harbor Street, Grand Haven, MI

Mandatory Source of Supply: Kandu Industries, Inc., Holland, MI

Contracting Activity: Dept of the Army, W072 ENDIST Detroit

Service Type: Janitorial/Custodial Service

Mandatory for: Portsmouth Naval Shipyard: Buildings 153 & 170, Kittery, ME

Mandatory Source of Supply: Northern New England Employment Services, Portland, ME

Contracting Activity: Dept of the Navy, Navy Crane Center

Service Type: Janitorial/Custodial Service

Mandatory for: National Personnel Records Center: 111 Winnebago Street, St. Louis, MO

Mandatory Source of Supply: Challenge Unlimited, Inc., Alton, IL

Contracting Activity: General Services Administration, FPDS Agency Coordinator

Service Type: Grounds Maintenance Service

Mandatory for: Vancouver Army Barracks, Vancouver, WA

Mandatory Source of Supply: Relay Resources, Portland, OR

Contracting Activity: Dept of the Army, W6QM MICC CTR-FT DIX (RC)

Michael R. Jurkowski,
Business Management Specialist, Business Operations.

[FR Doc. 2018-21735 Filed 10-4-18; 8:45 am]

BILLING CODE 6353-01-P